SECURITIES AND EXCHANGE COMMISSION

17 CFR Part 240

[Release No. 34-68660; File No. S7-08-12]

RIN 3235-AL12

Capital, Margin, and Segregation Requirements for Security-Based Swap Dealers and Major Security-Based Swap Participants and Capital Requirements for Broker-Dealers

AGENCY: Securities and Exchange Commission.

ACTION: Proposed rule; extension of comment period.

SUMMARY: On November 23, 2012, the Securities and Exchange Commission (“Commission”) published in the Federal Register a proposed rule for public comment to establish capital, margin, and segregation requirements for security-based swap dealers and major security-based swap participants under the Securities Exchange Act of 1934 (“Exchange Act”) and amend capital requirements for broker-dealers. The Commission is extending the time period in which to provide the Commission with comments.

DATES: Comments should be received on or before February 22, 2013.

ADDRESSES: Comments may be submitted by any of the following methods:

Electronic Comments

• Use the Commission's Internet comment form (http://www.sec.gov/rules/proposed.shtml);

• Send an email to rule-comments@sec.gov. Please include File Number S7-08-12 on the subject line; or

• Use the Federal eRulemaking Portal (http://www.regulations.gov). Follow the instructions for submitting comments.

Paper Comments

• Send paper comments in triplicate to Elizabeth M. Murphy, Secretary, Securities and Exchange Commission, 100 F Street NE., Washington, DC 20549-1090.

All submissions should refer to File Number S7-08-12. This file number should be included on the subject line if email is used. To help us process and review your comments more efficiently, please use only one method. The Commission will post all comments on the Commission's Internet web site (http://www.sec.gov/rules/proposed). Comments will also be available for Web site viewing and printing in the Commission's Public Reference Room, 100 F Street NE., Washington, DC 20549 on official business days between the hours of 10:00 a.m. and 3:00 p.m. All comments received will be posted without change; we do not edit personal identifying information from submissions. You should submit only information you wish to make available publicly.

FOR FURTHER INFORMATION CONTACT: Michael A. Macchiaroli, Associate Director, at (202) 551-5525; Thomas K. McGowan, Deputy Associate Director, at (202) 551-5521; Randall W. Roy, Assistant Director, at (202) 551-5522; Mark M. Attar, Branch Chief, at (202) 551-5889; Sheila Dombal Swartz, Special Counsel, at (202) 551-5545; Valentina M. Deng, Attorney, at (202) 551-5778; or Teen I. Sheng, Attorney, at 202-551-5511, Division of Trading and Markets, Securities and Exchange Commission, 100 F Street NE., Washington, DC 20549-7010.

SUPPLEMENTARY INFORMATION: On November 23, 2012, the Commission issued Release No. 34-68071 soliciting comment on proposed rules and rule amendments establishing capital, margin, and segregation requirements for persons who register with the Commission as security-based swap dealers or major security-based swap participants and amending capital requirements for broker-dealers.¹ The Commission originally requested that comments on this proposal be received by January 22, 2013. The Commission has recently been requested to extend the comment period and believes that extending the comment period is appropriate in order to give the public additional time to comment on the matters addressed by the release.² This extension will allow for 91 days of comment which the Commission believes should provide the public with sufficient additional time to consider thoroughly the matters addressed by the release and to submit comprehensive responses to the release which would benefit the Commission in its consideration of the final rules. Therefore, the Commission is extending the public comment period for 31 days until Friday, February 22, 2013.

¹ See Exchange Act Release No. 68071 (Oct. 18, 2012), 77 FR 70213 (Nov. 23, 2012).

² See Letter from Kenneth E. Bentson, Jr., Public Policy and Advocacy Executive Vice President, SIFMA, to Elizabeth M. Murphy, Secretary, Commission, dated Jan. 3, 2013; see also Letter from Richard M. Whiting, Executive Director and General Counsel, Financial Services Roundtable, to Elizabeth M. Murphy, Secretary, Commission, dated Jan. 2, 2013.

Dated: January 15, 2013.
By the Commission.
Elizabeth M. Murphy,
Secretary.

[FR Doc. 2013-01053 Filed 1-18-13; 8:45 am]

BILLING CODE 8011-01-P